DEPARTMENT OF EDUCATION

National Advisory Committee on Institutional Quality and Integrity (NACIQI)

AGENCY: Department of Education, National Advisory Committee on Institutional Quality, and Integrity (NACIQI).

ACTION: Request for nominations for appointment to serve on the National Advisory Committee on Institutional Quality and Integrity (NACIQI).

SUMMARY: Secretary of Education, Miguel A. Cardona, Ed.D., is seeking nomination(s) for appointment to fill one member vacancy on the NACIQI with a term of service that will expire on September 30, 2025.

DATES: Nominations must be received no later than September 15, 2022.

ADDRESSES: You may submit nomination(s), including attachments, via email to: cmtemgmtoffice@ed.gov (please specify in the email subject line “NACIQI Nomination”).

SUPPLEMENTARY INFORMATION:

NACIQI's Statutory Authority and Function

The NACIQI is established under Section 114 of the HEA. The NACIQI meets at least twice a year and advises the Secretary of Education with respect to: the establishment and enforcement of the standards of accrediting agencies or associations under subpart 2 of part H of Title IV, HEA; the recognition of specific accrediting agencies or associations; the preparation and publication of the list of nationally recognized accrediting agencies and associations; the eligibility and certification process for institutions of higher education under Title IV of the HEA, together with recommendations for improvements in such process; the relationship between (1) accreditation of institutions of higher education and the certification and eligibility of such institutions, and (2) State licensing responsibilities with respect to such institutions; and other advisory functions relating to accreditation and institutional eligibility that the Secretary may prescribe by regulation.

NACIQI is composed of 18 members, of which: six members shall be appointed by the Secretary of Education; six members shall be appointed by the Speaker of the U.S. House of Representatives, three of whom shall be appointed on the recommendation of the majority leader of the U.S. House of Representatives and three of whom shall be appointed on the recommendation of the minority leader of the U.S. House of Representatives; and six members shall be appointed by the President Pro Tempore of the U.S. Senate, three of whom shall be appointed on the recommendation of the majority leader of the U.S. Senate and three of whom shall be appointed on the recommendation of the minority leader of the U.S. Senate. Per 20 U.S.C. 1011d, at least one member of the Committee must be a student who at the time of appointment by the Secretary of Education, is attending an institution of higher education. Members are appointed: (A) on the basis of the individuals' experience, integrity, impartiality, and good judgment; (B) from among individuals who are representatives of, or knowledgeable concerning, education and training beyond secondary education, representing all sectors and types of institutions of higher education; and (C) on the basis of the individuals' technical qualifications, professional standing, and demonstrated knowledge in the fields of accreditation and administration in higher education.

Per the authorizing legislation for NACIQI, the term of office of each member of the Committee shall be for six years, except for vacancies. Any member appointed to fill a vacancy occurring prior to the expiration of the term for which the member's predecessor was appointed shall be appointed for the remainder of such term. A vacancy on the Committee shall be filled in the same manner as the original appointment was made not later than 90 days after the vacancy occurs. If a vacancy occurs in a position to be filled by the Secretary of Education, the Secretary shall publish a Federal Register notice soliciting nominations for the position not later than 30 days after being notified of the vacancy. Members of the Committee will serve as Special Government Employees (SGEs), as defined in 18 U.S.C. 202(a). As SGEs, members are selected for their individual experience, integrity, impartiality, and good judgment.

Nomination Process: Interested persons, stakeholders, or organizations may nominate a qualified individual(s). To nominate an individual(s) or self-nominate for appointment to serve on the NACIQI, please submit via the email address cmtemgmtoffice@ed.gov the following information to the U.S. Department of Education:

(1) A cover letter addressed to the Secretary of Education as follows: Honorable Miguel Cardona, Ed.D., Secretary of Education, U.S. Department of Education, 400 Maryland Avenue SW, Washington, DC 20202. In the letter, please note your reason(s) for submitting the nomination; (2) A copy of the nominee's current resume/cv; and (3) Contact information for the nominee (name, address, contact phone number, and email address).

In addition, the cover letter must include a statement affirming that the nominee (if you are nominating someone other than yourself) has agreed to be nominated and is willing to serve on the NACIQI if appointed by the Secretary of Education.

For questions, please contact Karen Akins, Committee Management Officer, U. S. Department of Education, Telephone: (202) 401-3677 Email: Karen.Akins@ed.gov

Electronic Access to this Document: The official version of this document is published in the Federal Register. Free internet access to the official version of this notice in the Federal Register and the applicable Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Miguel Cardona,
Secretary of Education.

[FR Doc. 2022-17624 Filed 8-15-22; 8:45 am]

BILLING CODE 4000-01-P